DEPARTMENT OF HOMELAND SECURITY

Coast Guard

33 CFR Part 117

[Docket No. USCG-2018-0428]

Drawbridge Operation Regulation; Snohomish River and Steamboat Slough, Everett and Marysville, WA

AGENCY: Coast Guard, DHS.

ACTION: Notice of deviation from drawbridge regulation.

SUMMARY: The Coast Guard has issued a temporary deviation from the operating schedule that governs the twin, SR 529 Highway Bridge, north bound, across Steamboat Slough, mile 1.2, near Marysville, WA. The deviation is necessary to accommodate painting and preservation. This deviation allows the bridge to remain in the closed-to-navigation position during the maintenance period to allow safe movement of the work crew.

DATES: This deviation is effective from 12:01 a.m. on July 2, 2018 to 11:59 p.m. on September 30, 2018.

ADDRESSES: The docket for this deviation, USCG-2018-0428 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Washington State Department of Transportation, the bridge owner, has requested that the twin, SR 529, Highway Bridge, north bound, across Steamboat Slough, mile 1.2, near Marysville, WA, remain in the closed-to-navigation position, which will reduce the lift span's vertical clearance by three feet. This request is to facilitate safe, uninterrupted bridge work for painting and preservation. The SR 529 highway bridge across Steamboat Slough, mile 1.2, provides 10 feet of vertical clearance above mean high water elevation while in the closed-to-navigation position; and this bridge operates in accordance with 33 CFR 117.1059(g).

The twin, SR 529, Highway Bridge, north bound, across Steamboat Slough, mile 1.2, is authorized to remain in the closed-to navigation position, and need not open for maritime traffic from 12:01 a.m. on July 2, 2018 to 11:59 p.m. on September 30, 2018. The subject bridge's lift span vertical clearance is also authorized to be reduced from ten feet to seven feet except for a 50 foot wide section that shall not be reduced for maritime passage. The bridge shall operate in accordance to 33 CFR 117.1059(g) at all other times.

Waterway usage on this part of the Snohomish River and Steamboat Slough includes vessels ranging from commercial tug and barge to small pleasure craft. Vessels able to pass under the subject bridge in the closed-to-navigation position may do so at any time. The subject bridge will not be able to open for vessels engaged in emergency response during the closure period. An alternate route for vessels to pass is available through Ebey Slough and Union Slough near the entrance of Steamboat Slough at high tide. The Coast Guard will also inform the users of the waterways through our Local and Broadcast Notices to Mariners of the change in operating schedule for the bridges so that vessels can arrange their transits to minimize any impact caused by the temporary deviation.

In accordance with 33 CFR 117.35(e), the drawbridge must return to the regular operating schedule immediately at the end of the effective period of this temporary deviation. This deviation from the operating regulations is authorized under 33 CFR 117.35.

Dated: May 23, 2018.
Steven M. Fischer,
Bridge Administrator, Thirteenth Coast Guard District.

[FR Doc. 2018-12284 Filed 6-6-18; 8:45 am]

BILLING CODE 9110-04-P